ENVIRONMENTAL PROTECTION AGENCY

[EPA-HQ-OAR-2021-0093; FRL-9517-01-OMS]

Information Collection Request Submitted to OMB for Review and Approval; Comment Request; NESHAP for Ferroalloys Production: Ferromanganese and Silicomanganese (Renewal)

AGENCY: Environmental Protection Agency (EPA).

ACTION: Notice.

SUMMARY: The Environmental Protection Agency has submitted an information collection request (ICR), NESHAP for Ferroalloys Production: Ferromanganese and Silicomanganese (EPA ICR Number 1831.08, OMB Control Number 2060-0391), to the Office of Management and Budget (OMB) for review and approval in accordance with the Paperwork Reduction Act. This is a proposed extension of the ICR, which is currently approved through March 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 28, 2022.

ADDRESSES: Submit your comments, referencing Docket ID Number EPA-HQ-OAR-2021-0093, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: Owners and operators of ferromanganese and silicomanganese production facilities are required to comply with reporting and record keeping requirements for the General Provisions (40 CFR part 63, subpart A), as well as for the applicable specific standards in 40 CFR part 63 Subpart XXX. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Ferroalloy production facilities that manufacture ferromanganese and silicomanganese.

Respondent's obligation to respond: Mandatory (40 CFR part 63, subpart XXX).

Estimated number of respondents: 2 (total).

Frequency of response: Quarterly, semiannually, and annually.

Total estimated burden: 1,610 hours (per year). Burden is defined at 5 CFR 1320.3(b).

Total estimated cost: $609,000 (per year), which includes $424,000 for annualized capital/startup and/or operation & maintenance costs.

Changes in the Estimates: There is a change in burden from the most-recently approved ICR (ICR Number 1831.07) as currently identified in the OMB Inventory of Approved Burdens. This is due to several considerations. The regulations are not anticipated to change over the next three years. The growth rate for this industry is either very low or non-existent, so there is no change in the number of respondents. The 2015 Risk and Technology Review final rule, issued June 30, 2015 (80 FR 37366), and the 2017 reconsideration, issued January 18, 2017 (82 FR 5408), revised the rule significantly, resulting in changes in the labor burden, capital/startup costs, and operation and maintenance (O&M) costs. However, these changes were not included in the previously-approved ICR (ICR Number 1831.07: Issued March 8, 2019). Instead, the burden for the rule revision was included in ICR Number 2448.02, issued March 16, 2015, which showed only the increase in burden due to the rule changes. This ICR (1831.08) combines and incorporates the `burden' from the 2015 and 2017 rule revisions, as shown in ICR Number 2448.02, with the `burden' shown in the previously-approved ICR (1831.07). This ICR also reorganizes and clarifies the `burden' associated with each rule requirement.

There is a decrease in the total estimated burden for capital/startup costs from that shown in ICR Number 2448.02. This decrease is not due to any program changes. The change in the burden and cost estimates occurred because the revised standard has been in effect for more than three years and the requirements are different during initial compliance. ICR Number 2448.02 reflected those burdens and costs associated with the initial activities for the two subject facilities. This includes purchasing monitoring equipment, conducting performance test(s) and establishing recordkeeping systems. This ICR reflects the on-going burden and costs for existing facilities.

There is an increase in the total estimated burden from that shown in ICR Number 2448.02. This increase is not due to any program changes. This increase is due to an omission in the burden calculations for O&M costs in ICR Number 2448.02, which failed to include costs for periodic testing (every five years) for certain equipment and processes.

The 2020 amendment to the regulation (85 FR 73902) added electronic notification requirements, but this did not add to the burden. There is a slight increase in labor costs, which is due wholly to the use of updated labor rates. This ICR uses labor rates from the most-recent Bureau of Labor Statistics report (March 2021) to calculate respondent burden costs.

Courtney Kerwin,
Director, Regulatory Support Division.

[FR Doc. 2022-01763 Filed 1-27-22; 8:45 am]

BILLING CODE 6560-50-P